DEPARTMENT OF THE INTERIOR

Bureau of Land Management

[UT-070-1610-DP-011J]

Notice of Availability of Supplemental Information and Analysis for the Draft Price Resource Management Plan/Environmental Impact Statement; Notice of Potential Areas of Critical Environmental Concern and Specific Associated Resource Use Limitations for Public Lands in Carbon and Emery Counties, UT

AGENCY: Bureau of Land Management, Interior.

ACTION: Notice of availability.

SUMMARY: This notice announces the availability of Supplemental Information and Analysis to the Price Field Office Draft Resource Management Plan/Environmental Impact Statement (Price Draft RMP/EIS) for Areas of Critical Environmental Concern (ACECs). This information includes four potential ACECs inadvertently omitted from the Price Draft RMP/EIS and prior notices.

DATES: To assure that public comments will be considered, BLM must receive written comments on the supplemental information and impact analysis to the Price Draft RMP/EIS for the potential ACECs within 90 days following the date the Environmental Protection Agency publishes the Notice of Availability of the supplemental ACEC information in the Federal Register.

Public comments regarding the designation of the four potential ACECs will be accepted for 60 days (43 CFR 1610.7-2) following the date this Notice of Availability is published in the Federal Register.

ADDRESSES: Written comments may be submitted by mail to the Bureau of Land Management, Price Field Office, 125 South 600 West, Price, UT 84501. E-mail comments may be submitted to the following address: UT_Pr_Comments@blm.gov.

FOR FURTHER INFORMATION CONTACT: Floyd Johnson, Assistant Field Manager, BLM Price Field Office, 125 South 600 West, Price, UT 84501, phone 435-636-3600, or visit the project Web site at http://www.blm.gov/rmp/ut/price.

SUPPLEMENTARY INFORMATION: The supplemental information provides additional documentation regarding the disposition of ACEC nominations, provides a description of the four additional potential ACECs, and analyzes any potential impacts relating to the inclusion of these ACECs in Alternative C of the Price Draft RMP/EIS. The original notice of availability for the Price Draft RMP/EIS for the Price Field Office planning area in Carbon and Emery Counties, Utah was published in the Federal Register, volume 69, number 136, Friday, July 16, 2004. A supplement to that Notice with information on existing and potential ACECs considered within the Price Draft RMP/EIS was published in the Federal Register, volume 70, number 238, Tuesday, December 13, 2005.

The Price Field Office planning area encompasses all of the public land managed by the Price Field Office in Carbon and Emery Counties, Utah. This area includes approximately 2.5 million acres of BLM-administered surface lands and 2.8 million acres of Federal mineral lands underlying Federal, State, and private surface ownership in the area. The decisions of the Price RMP will apply only to BLM-administered public lands, including Federal mineral estate.

The Price Draft RMP/EIS addresses five alternatives of proposed management decisions and analyzes the impacts of each. There are presently 13 existing designated ACECs (289,629 total acres) in the Price Field Office, which were established by the San Rafael RMP (1991). These are reflected in the No Action Alternative of the Draft RMP/EIS.

Nine potential ACECs (286,416 total acres) were considered in at least one action alternative in the Draft RMP/EIS. In some cases, the number and acres and the resource use limitations applied to the nine potential ACECs also varied by alternative. These nine potential ACECs were described in the Notice published in the Federal Register, volume 70, number 238, Tuesday, December 13, 2005.

In addition to the nine potential ACECs, four potential ACECs were inadvertently omitted from the Price Draft RMP/EIS released July, 2004. The four additional potential ACECs described and analyzed in the supplemental information include:

• Desolation Canyon Area—(159,246 acres) Values of concern include outstanding scenery, Fremont, Archaic and Ute cultural sites, and fisheries and wildlife habitats;

• Mussentuchit Badlands Area—(58,398 acres) Values of concern include cultural resources such as prehistoric quarrying area;

• White-Tailed Prairie Dog Complex—(9,204 acres) Values of concern include protection of habitat and other species dependent on prairie dog colonies; and

• Lower Muddy Creek Area—(29,854 acres) Values of concern include outstanding scenery and threatened and endangered plants.

These four potential ACECs are considered for designation in Alternative C of the Price Draft RMP/EIS. Potential resource use limitations related to ACEC management of all of these areas include limitations to OHV use, leasing for oil and gas, disposal of mineral materials, and locatable mineral entry. Additionally, ACEC management for the Desolation Canyon potential ACEC would exclude right-of-way (ROW) grants. The supplemental information and analysis has been prepared for public review to facilitate the inclusion of these four potential ACECs into the Price RMP/EIS. The information includes:

• The incorporation of the specific ACEC proposals, including resource use limitations, in Chapter 2:

• A description of potential impacts in Chapter 4;

• A summary of nominations matrix in Appendix 26; and

• A description of relevant and important values found in these four potential ACECs, also in Appendix 26.

Comments, including names and street addresses of respondents, will be available for public review at the Price Field Office during regular business hours, 8 a.m. to 4:30 p.m., Monday through Friday, except holidays and will be subject to disclosure under the Freedom of Information Act (FOIA). They may be published as part of the EIS and other related documents. Individual respondents may request confidentiality. If you wish to withhold your name or street address from public review and disclosure under FOIA, you must state this prominently at the beginning of your written comment. Such requests will be honored to the extent allowed by law. All submissions from organizations or businesses will be made available for public inspection in their entirety. The supplemental information is available upon request at the Price Field Office and on the Internet at the addresses provided above.

Dated: May 26, 2006.
Gene Terland,
Acting State Director.

[FR Doc. E6-9253 Filed 6-13-06; 8:45 am]

BILLING CODE 4310-DQ-P